NEIGHBORHOOD REINVESTMENT CORPORATION

Sunshine Act Meeting Notice; Audit Committee Meeting of the Board of Directors

TIME & DATE: 1:00 p.m., Monday, August 4, 2014.

PLACE: NeighborWorks America—Gramlich Boardroom, 999 North Capitol Street NE., Washington, DC 20002.

STATUS: Open (with the exception of Executive Sessions).

CONTACT PERSON: Jeffrey Bryson, General Counsel/Secretary, (202) 760-4101; jbryson@nw.org.

AGENDA:

I. CALL TO ORDER

II. Executive Session with the Chief Audit Executive

III. Executive Session with Officers

IV. External Auditor Retainment

V. Internal Audit Reports with Management's Response

VI. FY15 Risk Assessment & Internal Audit Plan

VII. Approval of changes to the FY14 Internal Audit Plan

VIII. Internal Audit Status Reports

IX. Compliance Update

X. OHTS Watch List Review

XI. Adjournment

Jeffrey T. Bryson,
EVP & General Counsel/Corporate Secretary.

[FR Doc. 2014-17677 Filed 7-23-14; 4:15 pm]

BILLING CODE 7570-02-P